DEPARTMENT OF TRANSPORTATION

Federal Aviation Administration

Twelfth RTCA SC-230 Airborne Weather Detection Systems Plenary

AGENCY: Federal Aviation Administration (FAA), U.S. Department of Transportation (DOT).

ACTION: Twelfth RTCA SC-230 Airborne Weather Detection Systems Plenary.

SUMMARY: The FAA is issuing this notice to advise the public of a meeting of Twelfth RTCA SC-230 Airborne Weather Detection Systems Plenary. This is a subcommittee to RTCA.

DATES: The meeting will be held October 5-6, 2017 12:00 p.m.-2:00 p.m.

ADDRESSES: The meeting will be held virtually at: https://rtca.webex.com/rtca/j.php?MTID=m98173957d2643d4c045b7fbb1e15119a, Join by phone: 1-877-668-4493, US/Canada Toll Free: 1-855-358-5393, Access code: 637 610 482, Meeting Password: 7Qw93McK.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Twelfth RTCA SC-230 Airborne Weather Detection Systems Plenary. The agenda will include the following:

October 5, 2017 12:00 p.m.-2:00 p.m.

1. Welcome and Administrative Remarks

2. Introductions

3. Agenda Review

4. Meeting Minutes Review and Approval of Last Plenary

5. Review of Proposed Change 1 for SC-220A and SC-213A

October 6, 2017 12:00 p.m.-2:00 p.m.

1. Review of Proposed Change 1 for SC-220A and SC-213A

2. Action Item Review

3. Any Other Business

4. Date and Place of Next Meeting

5. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on September 11, 2017.
Mohannad Dawoud,
Management & Program Analyst, Partnership Contracts Branch, ANG-A17, NextGen, Procurement Services Division, Federal Aviation Administration.

[FR Doc. 2017-19496 Filed 9-13-17; 8:45 am]

BILLING CODE 4910-13-P